DEPARTMENT OF LABOR

Employment And Training Administration

[TA-W-54,319]

Eighth Floor Promotions, Bloomington, MN; Notice of Termination of Investigation

Pursuant to Section 221 of the Trade Act of 1974, as amended, an investigation was initiated on February 20, 2004 in response to a petition filed on behalf of workers at Eighth Floor Promotions, Bloomington, Minnesota.

The petitioners have requested that the petition be withdrawn. Consequently, the investigation has been terminated.

Signed at Washington, DC, this 27th day of February, 2004.
Linda G. Poole,
Certifying Officer, Division of Trade Adjustment Assistance.

[FR Doc. E4-582 Filed 3-15-04; 8:45 am]

BILLING CODE 4510-13-P